ENVIRONMENTAL PROTECTION AGENCY

40 CFR Part 51

[EPA-HQ-OAR-2004-0489; FRL-9922-27-OAR]

RIN 2060-AR29

Revisions to the Air Emissions Reporting Requirements: Revisions to Lead (Pb) Reporting Threshold and Clarifications to Technical Reporting Details

AGENCY: Environmental Protection Agency.

ACTION: Final rule.

SUMMARY: This action finalizes changes to the Environmental Protection Agency's (EPA) emissions inventory reporting requirements. This action lowers the threshold for reporting lead (Pb) emissions sources as point sources, eliminates the requirement for reporting emissions from wildfires and prescribed fires, and replaces a requirement for reporting mobile source emissions with a requirement for reporting the input parameters that can be used to run the EPA models that generate emissions estimates. This action also reduces the reporting burden on state, local, and tribal agencies by removing the requirements to report daily and seasonal emissions in their submissions under this rule, while clarifying the requirement to report these emissions under pollutant-specific regulations. Lastly, this action modifies some emissions reporting requirements which we believe are not necessary for inclusion in the Air Emissions Reporting Requirements (AERR) rule or are not clearly aligned with current inventory terminology and practices.

DATES: This final rule is effective on February 19, 2015.

ADDRESSES: The EPA has established a docket for this action under Docket ID No. EPA-HQ-OAR-2004-0489. All documents in the docket are listed on the http://www.regulations.gov Web site. Certain other material, such as copyrighted material, is not placed on the Internet and will be publicly available only in hard copy form. Publicly available docket materials are available either electronically through http://www.regulations.gov or in hard copy at the Air Emissions Reporting Requirements Docket, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Ron Ryan, Office of Air Quality Planning and Standards, Air Quality Assessment Division, Emissions Inventory and Analysis Group (C339-02), U.S. Environmental Protection Agency, Research Triangle Park, NC 27711; telephone number: (919) 541-4330; email: ryan.ron@epa.gov.

SUPPLEMENTARY INFORMATION:

Table of Contents

I. General Information

A. Does this action apply to me?

B. Where can I get a copy of this document and other related information?

C. Judicial Review

II. Background

III. Summary of Revisions

A. Lower Point Source Threshold for Pb Emitters

B. Elimination of Reporting for Wildfires and Prescribed Fires and Clarification for Reporting Agricultural Fires

C. Reporting Emission Model Inputs for Onroad and Nonroad Sources

D. Removal of Requirements To Report Daily and Seasonal Emissions

E. Revisions To Simplify Reporting and Provide Consistency With EIS

IV. Response to Comments

A. Lower Point Source Threshold for Pb Emitters

B. Elimination of Reporting for Wildfires and Prescribed Fires and Clarification for Reporting Agricultural Fires

C. Reporting Emission Model Inputs for Onroad Sources

D. Reporting Emission Model Inputs for Nonroad Sources

E. Removal of Requirements To Report Daily and Seasonal Emissions

F. Revisions To Simplify Reporting and Provide Consistency With EIS

V. Statutory and Executive Order Reviews

A. Executive Order 12866: Regulatory Planning and Review and Executive Order 13563: Improving Regulations and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Executive Order 12898: Federal Actions To Address Environmental Justice in Minority Populations and Low-Income Populations

K. Congressional Review Act

I. General Information

A. Does this action apply to me?

Categories and entities potentially regulated by this action include:

Category | CAICS code ᵃ | Examples of regulated entities
State/local/tribal government | 92411 | State, territorial, and local government air quality management programs. Tribal governments are not affected, unless they have sought and obtained treatment as state status under the Tribal Authority Rule and, on that basis, are authorized to implement and enforce the Air Emissions Reporting Requirements rule.
ᵃ North American Industry Classification System.

This table is not intended to be exhaustive, but rather provides a guide for readers regarding entities likely to be regulated by this action.¹ This action requires states to report their emissions to us. It is possible that some states will require facilities within their jurisdictions to report emissions to the states. To determine whether your facility would be regulated by this action, you should examine the applicability criteria in 40 CFR 51.1. If you have any questions regarding the applicability of this action to a particular entity, consult the person listed in the preceding FOR FURTHER INFORMATION CONTACT section.

¹ As prescribed by the Tribal Authority Rule (63 FR 7253, February 12, 1998), codified at 40 CFR part 49, subpart A, tribes may elect to seek Treatment as State (TAS) status and obtain approval to implement rules such as the AERR through a Tribal Implementation Plan (TIP), but tribes are under no obligation to do so. However, those tribes that have obtained TAS status are subject to the AERR to the extent allowed in their TIP. Accordingly, to the extent a tribal government has applied for and received TAS status for air quality control purposes and is subject to the AERR under its TIP, the use of the term state(s) in the AERR shall include that tribal government and use of the term State Implementation Plan(s) or SIP(s) shall include that TIP.

Likewise, to the extent that air quality requirements are addressed by a local air agency instead of a state air agency and that local air agency is subject to the AERR under its SIP, the use of the term state(s) in the AERR shall include that local air agency.

B. Where can I get a copy of this document and other related information?

In addition to being available in the docket, an electronic copy of this final rule will also be available on the Worldwide Web (WWW) through the Technology Transfer Network (TTN). Following the Administrator's signature, a copy of this final rule will be posted on the TTN's policy and guidance page for promulgated rules at the following address: http://www.epa.gov/ttn/chief/. The TTN provides information and technology exchange in various areas of air pollution control. If more information regarding the TTN is needed, call the TTN HELP Line at (919) 541-4814.

C. Judicial Review

Under section 307(b)(1) of the Clean Air Act (CAA), judicial review of this final rule is available by filing a petition for review in the U.S. Court of Appeals for the District of Columbia Circuit by April 20, 2015. Under section 307(d)(7)(B) of the CAA, only an objection to this final rule that was raised with reasonable specificity during the period for public comment can be raised during judicial review. Moreover, under section 307(b)(2) of the CAA, the requirements established by this action may not be challenged separately in any civil or criminal proceedings brought by the EPA to enforce these requirements.

II. Background

The EPA proposed amendments to the AERR on June 20, 2013 (78 FR 37164). In today's action, the EPA is amending the emissions inventory reporting requirements in 40 CFR part 51, subpart A, and in 40 CFR 51.122. This action aligns the point source reporting threshold for Pb emissions sources in the AERR with the National Ambient Air Quality Standard (NAAQS) for Lead (73 FR 66964, November 12, 2008) and the associated Revisions to Lead Ambient Air Monitoring Requirements (75 FR 81126, December 27, 2010). These amendments further improve the rule to both reduce burden on air agencies as well as make minor technical corrections that reflect what has been put into practice through existing electronic reporting implementation.

Emissions inventories are critical for the efforts of state and federal agencies to attain and maintain the NAAQS for criteria pollutants, such as ozone, particulate matter (PM) and carbon monoxide (CO). To assist these efforts, the EPA initiated an effort in the early 1990's to develop a central repository of inventory data for all states that is now known as the National Emissions Inventory (NEI). Emissions inventory data reported electronically under this rule are stored in the Emissions Inventory System (EIS) database and are used by the EPA and by states for air quality modeling, tracking progress in meeting CAA requirements, setting policy, and answering questions from the public. States often use the NEI as a starting point in developing emission inventories for support of state implementation plans (SIPs).

Pursuant to its authority under sections 110 and 172 of the CAA, the EPA has required SIPs to include inventories containing information regarding criteria pollutant emissions and their precursors (e.g., volatile organic compounds (VOC)). The EPA codified these inventory requirements in subpart Q of 40 CFR part 51 in 1979 and amended them in 1987.

The 1990 Amendments to the CAA revised many of the CAA provisions related to the attainment of the NAAQS and the protection of visibility in Class I areas. These revisions established new periodic emission inventory requirements applicable to certain areas that were designated nonattainment for certain pollutants. For example, section 182(a)(3)(A) required states to submit an emission inventory every 3 years for Moderate ozone nonattainment areas beginning in 1993. Similarly, section 187(a)(5) required states to submit an inventory every 3 years for Moderate CO nonattainment areas.

Prior regulations supporting the annual reporting needed for the NEI included the Consolidated Emissions Reporting Rule (CERR), which was promulgated by EPA in 2002, and codified in 40 CFR part 51, subpart A. These requirements replaced the requirements previously contained in subpart Q of 40 CFR part 51, expanding their geographic and pollutant coverages, while simplifying them in other ways. The CERR was the precursor to the AERR. The original AERR was promulgated in 2008 with the intent of streamlining various reporting requirements including those of section 182(a)(3)(A) for ozone nonattainment areas and section 187(a)(5) for CO nonattainment areas, those under the NOX SIP Call (40 CFR 51.122), and the annual reporting requirements of the CERR.

III. Summary of Revisions

This action lowers the threshold for reporting Pb emissions sources as point sources, eliminates the requirement for reporting emissions from wildfires and prescribed fires, and replaces a requirement for reporting mobile source emissions with a requirement for reporting the input parameters that can be used to run the EPA models that generate mobile source emissions estimates. This action also reduces the reporting burden on state, local, and tribal agencies by removing the requirements to report daily and seasonal emissions as part of their AERR submissions, while clarifying the requirement to report these emissions under pollutant-specific regulations (i.e., the NOX SIP Call, the Ozone Implementation Rule, and relevant CO maintenance plans). This action also modifies some emissions reporting requirements which we believe are not necessary or are not clearly aligned with current inventory terminology and practices.

A. Lower Point Source Threshold for Pb Emitters

With this action, the EPA is lowering the point source threshold for Pb emissions to 0.5 tons per year (tpy) of actual emissions. The purpose of this change is to match requirements of the Pb Ambient Air Monitoring Requirements rule (75 FR 81126), which required monitoring agencies to install and operate source-oriented ambient monitors near Pb sources emitting 0.50 tpy or more by December 27, 2011. The EPA considers that the ambient monitoring rule threshold is 0.5 tons of actual emissions, therefore, this criterion is based on actual emissions rather than the potential-to-emit approach taken for other criteria pollutant and precursor thresholds. All criteria pollutants and precursors will continue to be required to be reported for any source meeting this new threshold for Pb.

B. Elimination of Reporting for Wildfires and Prescribed Fires and Clarification for Reporting Agricultural Fires

With this action, the EPA is removing the requirement for reporting emissions for wildfire and prescribed fires. States may report these emissions voluntarily as event sources in the EIS, but states no longer have the option of reporting these emissions as nonpoint (countywide) sources. The EPA already provides nationwide estimates for wildfires and prescribed fires using information it has, so requiring states to also report these data is not necessary. States are encouraged to review and comment on the EPA's estimates, or to report their own estimates if they so choose.

This action also clarifies that agricultural fires continue to be required to be reported, and that these sources must be reported as nonpoint sources. Agricultural fires cannot be reported as point sources or as event sources.

C. Reporting Emission Model Inputs for Onroad and Nonroad Sources

With this action, the EPA is finalizing its proposal that states will no longer be required to submit mobile source emission estimates, but instead will submit the inputs for emissions models of onroad and nonroad mobile sources. This change applies to all states except California. Because California uses other models to reflect their additional regulatory requirements not reflected by the EPA models, California is required to report emissions values. The EPA models in use at the time of this action are the Motor Vehicle Emissions Simulator (MOVES) and the nonroad equipment model called NONROAD. The change to require model inputs from all states except California allows the EPA to use these data to run the latest version of the applicable models, even if those versions have been finalized after the model input data were collected. It also allows the EPA to generate consistent base year and future year emissions estimates, which the EPA needs to accurately assess benefits for new regulations and to make other regulatory decisions that use air quality modeling. In addition, this action makes voluntary the reporting of emissions values for onroad and nonroad mobile sources for all states except California.

D. Removal of Requirements To Report Daily and Seasonal Emissions

With this action, the EPA is removing the requirements from the AERR that states report daily and seasonal emissions, while still permitting states to submit such data voluntarily to the EIS. States may still elect to meet the emissions reporting requirements of the NOX SIP Call (40 CFR 51.122), the Ozone Implementation Rule (40 CFR part 51, subpart X), or the CO reporting required by the relevant CO maintenance plans through the AERR, but they are no longer required to do so. Each of these three underlying provisions already requires states to show and track consistency with the emissions projections contained in the approved SIP submissions, which can include daily or seasonal data, and also contains requirements for public review of SIP revisions. The EPA has eliminated a requirement in the AERR that, given specific public review and documentation requirements of those rules, made compliance with those rules through AERR submissions difficult. Thus, in implementing this change, the EPA is reducing burden for states that were having difficulty meeting both those SIP requirements and the previous additional AERR requirements, which were intended to meet the SIP requirements, but did not do so in all cases. States may continue to meet these SIP requirements separately or use the AERR submission to do so, as long as the AERR submission can meet these SIP requirements.

However, as explained more fully below, in light of comments received, we have determined that additional changes to some of the underlying SIP implementation provisions are necessary to ensure that the requirement to report the necessary daily and seasonal emissions is included in those underlying rules. Specifically, while the final AERR revision rule removes ozone season emissions and summer day emissions definitions and associated reporting requirements from the AERR provisions in 40 CFR Subpart A, we are also finalizing changes that will move the relevant definitions and reporting requirement for summer day emissions to the ozone reporting requirements in the Ozone Implementation Rule (40 CFR 51.900 (definitions) and 51.915 (inventory requirements)) and for ozone season emissions and summer day emissions to the NOX SIP Call reporting requirements in 40 CFR 51.122.

E. Revisions To Simplify Reporting and Provide Consistency With EIS

The previous version of the AERR was finalized prior to the EPA finalizing the design details of the EIS data system that is used to collect and store the required data. With this action, the EPA is changing the tables of pollutants and data elements included in Appendix A to be consistent with the EIS through removals, name changes, and additions. Overall, these changes reduce burden for states, though, as noted below in the summary of EPA's responses to comments on the proposed rule (which is based on the comprehensive Response to Comments document that is available in the docket for this rule), some changes may add a small amount of additional burden for some states.

1. Revised Formats for Appendix A Tables

The EIS data system was designed such that data elements that had not changed from one reporting period to the next did not need to be re-submitted, and only data elements that changed needed to be reported. This streamlined reporting structure, along with the terminology changes, requirements deletions, and other consistency revisions described above, created a need for the EPA to revise Tables 1, 2a, 2b and 2c in Appendix A of the AERR. Table 1 still defines the emissions thresholds that determine the Type A point source emissions required to be reported each year. In addition, Table 1 now includes the thresholds used to determine the Type B sources required to be reported as point sources every third year. These Type B point source thresholds had previously been included as part of the definition of the term “point source.” In the revised Table 1, we have clarified the name of the two PM pollutants by including “primary.” This is consistent with the existing list of required pollutants described in 40 CFR 51.15.

Table 2a has been revised to include only the point source facility inventory data elements that are required to be in EIS, without regard to either the every-year or every third year reporting cycles, since these elements need only be reported for any new point source or when any change occurs at an existing point source. The emissions data element requirements for point sources from Table 2a have been combined with the emissions requirements for the other three emissions source types in Table 2b. These changes have allowed the information previously contained in Table 2c to move to Table 2b and for Table 2c to be eliminated. We have also eliminated the separate columns for “Every-year reporting” and “Three-year reporting” from Tables 2a and 2b. Those reporting cycle distinctions were only applicable to Type A point sources, and with the revisions, Table 1 now describes all of the necessary distinctions.

2. Addition of New Facility Inventory Elements

This action adds Facility Site Status, Release Point Status, and Unit Status data elements to the Facility Inventory data elements listed in Table 2a, along with the year in which any of these three data elements change from one status to another. The operating status is used by the states to indicate whether emissions reports should continue to be expected for a facility, emissions unit, or a release point, or the reason why emissions will not be reported after the year indicated.

We are also adding Aircraft Engine Type, Unit Type, and Release Point Apportionment Percent to Table 2a. The addition of Aircraft Engine Type is to support the EPA's interest in the EPA's calculating and using point source emissions from aircraft at airports. This change does not imply a requirement for states to submit aircraft as point sources. The EPA provides landing and takeoff data for state review and encourages the states to review and update those data in support of EPA's calculation of aircraft emissions. Such review would meet the states' reporting obligation for aircraft emissions. However, the states' requirement can also be met by submitting aircraft emissions as nonpoint sources. If states choose to submit their own point source estimates, this change means they would have to provide the Aircraft Engine Type code and the source classification code (SCC) to completely specify the emitting process.

Unit Type is being added to more easily and explicitly identify the type of emission unit producing the emissions than can be inferred from the SCC alone. To reduce burden associated with this new field, we have also limited the existing requirement for reporting the Unit Design Capacity for all units to only reporting capacities for a limited number of key unit types (e.g., boilers). The Unit Type data element is necessary for the EIS data system to be able to confirm the presence of a value for the Unit Design Capacity element, since the Unit Design Capacity element is required only for certain Unit Types (e.g., boilers).

The Release Point Apportionment Percent is being added to officially implement a feature added to the EIS at the request of some state data reporters. This data element allows states to split the emissions from a single emission process to multiple release points by reporting the percentage of emissions going to each release point.

3. Addition of New Emissions Elements

This action adds five new data elements to Table 2b, of which four are minor extensions or clarifications of existing requirements necessary to avoid ambiguity in the EIS data system. The EPA believes that these new items will not add a significant new information collection burden. As described in the response to comments summary below and the comprehensive Response to Comments document that is available in the docket for this rule, the EPA provides options to states to greatly reduce any burden for these additional data elements. The four data elements are: Shape Identifiers, Emission Type, Reporting Period Type, and Emission Operating Type.

Shape Identifiers are a more detailed method of identifying the geographic area for which emissions are being reported for nonpoint sources, instead of using the entire county. The EPA believes that they are needed for a small number of nonpoint source types, such as rail lines, ports, and underway vessels, which occur only in a small and identifiable portion of a full county. Although states are still required to report emissions for these sources, this action also adds an option for states to meet the reporting requirement by accepting the EPA's estimates for the sources for which the EPA makes calculations. For the nonpoint sources needing the more geographically-detailed emissions with Shape Identifiers, the EPA provides tables describing the geographic entities and their Shape Identifiers and has emissions estimates for each of the entities. If states choose to submit their own estimates, they must now provide the extra geographic detail described by the Shape Identifiers.

Emission Type is a code that is a further level of detail of the existing required element SCC, which describes the emitting processes. We have also revised the definition of this term in 40 CFR 51.50, since the previous definition erroneously described the Reporting Period Type and not the Emission Type.

Reporting Period Type is a code that identifies whether the emissions being reported are an annual total or one of the seasonal or daily type emissions that we are proposing to make optional, although reporting of such emissions may still be required as part of the state's implementation of a NAAQS. This addition replaces the erroneous use of the name “Emission Type” to describe this data element in the previous version of the AERR, as described above. The Reporting Period Type is necessary for states to distinguish the required annual emissions from the optional sub-annual emissions.

Emission Operating Type is a data element for point sources that indicates whether the emissions are associated with routine operations, or a shutdown, startup, or upset. It is necessary for the data system to distinguish between the minimally required routine emissions and the other optional operating types that the EIS can also accept.

This action also adds the Emissions Calculation Method as an additional fifth data element to the Table 2b emissions requirements. This element is required for point and nonpoint sources. It is a code that indicates how each emissions value was estimated or determined (e.g., by continuous emissions monitor, by a stack test, or by an average emission factor). The EPA has determined that this element is needed to evaluate the adequacy of any emissions value for the stated purposes of the NEI and to allow the EPA to select the most reliable emissions value where more than one is available. State reporters should have this value easily available to them because they are selecting the calculation method, so adding it to their electronic submittals should cause only a minimal amount of added burden.

4. Clarification of Element Names and Usage for Controls

This action revises the data element names and clarifies the usage conventions for four data elements related to emissions control devices for the point source facility inventory elements. The single Percent Control Approach Capture Efficiency and a Percent Control Measures Reduction Efficiency for each pollutant are now required, where controls exist. These elements replace the previously required Primary Capture and Control Efficiency and Total Capture and Control Efficiency elements. The Percent Control Approach Capture Efficiency is now reported once as a stand-alone element, rather than being combined with each pollutant's Reduction Efficiency. This change reflects how the EIS data system addresses the situation and we believe it is a more practical and reasonable approach, since it allows states to report the individual reduction efficiencies as separate data elements rather than reporting only combined values that are computed from the separate reduction efficiencies.

In addition, this action adds a new Control Pollutant data element, which allows states to indicate the pollutant for which the Control Measure Reduction Efficiency is provided. This action also revises the names of previously required point source elements. Control Device Type and Rule Effectiveness have been renamed to Control Measure and Percent Control Approach Effectiveness, respectively.

This action also finalizes similar terminology and usage conventions for the nonpoint sources emission control data elements. Consistent with point sources, Control Measure and Control Pollutant are now also required for nonpoint sources. Finally, the former nonpoint data element Total Capture and Control Efficiency is now renamed to Percent Control Measures Reduction Efficiency, and Rule Effectiveness is renamed Percent Control Approach Effectiveness, consistent with the point source names.

5. Revisions to Other Facility Inventory Element Names

This action finalizes revisions to some of the terms in the point source facility inventory Table 2a to clarify their meaning and promote consistency with the EIS data system names. We are renaming the element FIPs Code to State and County FIPs Code and are permitting a Tribal Code element to be reported rather than the State and County FIPs Code when applicable. For each of the five existing stack and exit gas data elements, we are adding “Release Point” to the names to be consistent with EIS names. We are adding five Unit of Measure data elements, one for each of the existing numerical stack and exit gas data elements, in order to formalize the only reasonable interpretation of the prior rule requirements. The rule now requires reporting of the units of measure along with the numerical values. In addition, the Emission Type data element in the prior rule's Table 2a is now renamed Emission Operating Type and is now moved to Table 2b since it describes the emissions reported, not the facility. This action also clarifies that the requirement for Physical Address is implemented in the EIS data system through the use of four separate data elements: Location Address, Locality Name, State Code, and Postal Code.

6. Revisions To Simplify Reporting and Reduce Burden

This action revises some data elements in the point source facility inventory in Table 2a to simplify reporting and reduce burden. Either the Exit Gas Velocity or Exit Gas Flow Rate is now required, but not both. Because the Release Point Stack Diameter is also required, it is possible for users to derive the velocity or the flow rate from the other value, and so it is not necessary for states to report both. This action now requires the X Facility Coordinate (longitude) and the Y Facility Coordinate (latitude) rather than the previous requirement for X Stack Coordinate (longitude) and Y Stack Coordinate (latitude). Burden is reduced by requiring only a single facility location rather than locations for each stack or release point. It has been the EPA's experience that most states do not have accurate location values for each individual release point within a facility; instead they frequently report the same locations for all stacks within a facility. Furthermore, the vast majority of facilities are geographically small enough that such a simplification does not reduce the usefulness of the data for most inventory purposes. Although we are finalizing the requirement that only facility locations need to be reported, we encourage states voluntarily to report stack locations where those data are available. The EPA may also add individual stack locations where the agency believes it has accurate data (e.g., when provided in Information Collection Requests).

Lastly, to reduce burden, this action eliminates the requirement to report several data elements: Inventory Start Date and End Date; Contact Name and Phone Number; and the four seasonal throughput percents. States may optionally report this information. In addition, for the point, nonpoint, and nonroad source types, we have removed the requirement to report three operating schedule elements: Hours per Day, Days per Week, and Weeks per Year. Also for the point source type, we have removed the requirement to report the following data elements: Heat Content, Ash Content, Sulfur Content, Method Accuracy Description Codes, and Maximum Generator Nameplate Capacity. The EPA believes that the usefulness of the remaining data is not significantly impacted by not collecting these data from the states, but we note that states still have the option to report them if those data are available.

Three additional data elements are now voluntary rather than required under the AERR for all four emissions source types, for the reasons described in section D above: Summer Day Emissions, Ozone Season Emissions, and Winter Work Weekday Emissions. However, all of the data elements that are no longer required to be reported under the AERR may still be voluntarily reported to the EIS data system.

IV. Response to Comments

In response to our notice of proposed rulemaking, we received comments from 11 commenters: 10 state agencies and one corporation. The EPA carefully considered all comments in developing the final amendments. The EPA has provided a comprehensive Response to Comments document that is available in the docket for this rule. This section provides a high-level summary of significant comments and the EPA's responses to those comments.

A. Lower Point Source Threshold for Pb Emitters

We proposed to change the reporting threshold for point sources of Pb from 5 tpy to 0.5 tpy of Pb potential emissions. The EPA received comments supporting the proposal, as well as comments recommending alternative approaches. Some comments requested that the EPA consider that the ambient monitoring rule threshold is 0.5 tons of actual emissions, and thus the goal of aligning with that rule would be better met using a 0.5 tpy threshold for actual emissions rather than potential emissions. After considering all comments, the EPA is finalizing a 0.5 tpy of actual emissions threshold for reporting Pb emissions as point sources to better reflect available state emissions inventories.

B. Elimination of Reporting for Wildfires and Prescribed Fires and Clarification for Reporting Agricultural Fires

The EPA proposed to eliminate the requirement for reporting emissions from wildfires and prescribed fires, to eliminate the reporting of these sources as nonpoint sources, and to clarify that agricultural fires must be reported as nonpoint sources. These proposed changes would reduce the reporting burden for states, because the EPA already calculates emissions from these sources, using national, satellite-based methods. Seven commenters supported the proposed elimination of the requirement to report emissions from wildfires and prescribed fires. One of these commenters further requested that the EPA retain the option for states to submit their fire emissions. Another commenter recommended that prescribed fires be allowed to be reported to the nonpoint data category. The EPA agrees that states should have the option of reporting fire emissions and the proposal allowed for that possibility. We do not believe that allowing both event-based and nonpoint reporting for prescribed fires is a viable approach, because such an approach would increase complexity of the inventory process by requiring the EPA to prevent double-counting across event-based and nonpoint-based submissions. After consideration of the comments, the EPA is finalizing this section of the rule as proposed.

C. Reporting Emission Model Inputs for Onroad Sources

We proposed to require model inputs from all states (except California) for the onroad mobile sources model MOVES, rather than require emissions values, and to permit the optional additional reporting of emissions values. Six commenters supported this approach. One state objected to the requirement for inputs for MOVES, noting that its approaches to modeling onroad emissions exceed the detail that the EPA would be able to replicate using the MOVES inputs alone, and recommended that EPA should allow either model inputs or emissions values for states to fulfill their reporting requirements.

The EPA believes that allowing emissions values instead of model inputs does not sufficiently address the EPA's needs for such onroad model input data. The MOVES model provides a large degree of flexibility regarding how to run the model, and while different run approaches can result in different estimates of emissions values, no one approach is superior to the others. The commenting state's use of finely resolved modeling approaches is no different from that of many states with nonattainment areas, for which detailed approaches are being used for state implementation plans. As we noted in the proposal, and also explain in the comprehensive Response to Comments document that is available in the docket for this rule, providing model inputs will meet a number of the EPA's needs that are essential to overall air quality responsibilities, including improving the accuracy and timeliness of the EPA's air quality planning efforts, allowing the EPA to use the latest versions of the applicable models to generate the most accurate emissions values, which are used in a variety of required implementation and planning activities, and allowing the EPA to generate consistent base year and future year emissions estimates, which are necessary for performing accurate benefits estimates for new rules (see 78 FR 37167). Thus, this final rule includes a requirement for all states, except California, to report their onroad model input data, requires California to report emissions values (because California's EPA-approved model uniquely supports California onroad mobile regulations), and allows emissions values data to be reported optionally in addition for all other states.

D. Reporting Emission Model Inputs for Nonroad Sources

We additionally proposed to require all states (except California) to provide inputs for the EPA-developed nonroad mobile sources model such as the National Mobile Inventory Model (NMIM), rather than require emissions values, and to permit the optional additional reporting of emissions values. Six commenters supported this approach. One state objected to the requirement for inputs for NONROAD, noting that they developed an improved nonroad emissions approach. They further commented that states should be able to meet their nonroad reporting requirement by reporting emissions values or model inputs.

The EPA disagrees with the comment that emissions values should be allowed in place of model inputs for several reasons. First, ongoing changes to the EPA-approved nonroad modeling to use MOVES means that all states will have to adapt to new formats in upcoming AERR every third year cycles. Second, the EPA's approved nonroad approaches are considered valid for all states except California, where state-specific nonroad source regulations cannot be modeled by the EPA model(s). Thus, even if states voluntarily develop their own approaches, the EPA's nonroad approach is still a valid approach in those states and inputs can be prepared. Third, the suggestion to submit only emissions values does not address the EPA need to have inputs for estimating consistent base and future-year emissions. Finally, for states that believe their emissions values from their own approaches are better than values that might be created by the EPA by using the inputs, those states may optionally submit those emissions values as well for use by the EPA. Thus, this final rule (1) requires all states, except California, to provide nonroad model inputs in the formats supported by the latest EPA nonroad models in accordance with guidance provided for a given every third year NEI cycle, (2) requires California to report nonroad emissions values (because state-specific nonroad source regulations cannot be modeled by the EPA models), and (3) allows additional emissions values data to be reported optionally for all other states.

E. Removal of Requirements To Report Daily and Seasonal Emissions

The EPA proposed to remove requirements to submit daily and seasonal emissions from the AERR because those requirements are duplicative in light of similar requirements of the underlying pollutant-specific implementation rules (including CO maintenance plans). These underlying rules already require states to show and track consistency with the emissions projections contained in the approved SIP submissions, and also contain requirements for public review of SIP revisions. Two commenters stated support for the proposed changes, with one of those noting inconsistencies with proposed changes to the ozone implementation rule. Four commenters disagreed with the EPA's proposed change to remove the summer day emissions requirement, with some of those commenters also noting that the definition of summer day emissions in the AERR was referenced by the proposed ozone implementation rule. One commenter stated that AERR submissions can be used as a way to demonstrate milestone year compliance for ozone or CO nonattainment areas. Another commenter indicated that since the NOX SIP Call does not contain specific data reporting requirements and instead refers to the AERR for those requirements (see 40 CFR 51.122(f)), deleting the summer day emissions reporting in the AERR would not allow for proper implementation of the NOX SIP Call. In addition, a commenter noted that the proposed AERR did not explicitly list the NOX SIP call as an optional source of submitted data intended to meet compliance with that rule.

As a result of these comments, the EPA intends to ensure that the requirements for the ozone implementation rule and NOX SIP Call are clear and that terms for mandatory emissions fields are defined in a pollutant-specific regulation, or in the relevant maintenance plan for CO. The EPA believes that the appropriate place for addressing pollutant-specific daily and seasonal reporting requirements is not the general AERR, but rather the underlying pollutant-specific implementation rules. Thus, we are not including those definitions or requirements in the final AERR. In addition, the EPA notes that while summer and winter daily emissions and seasonal emissions are no longer required by the AERR, air agencies may voluntarily report such data to EPA. Allowing such voluntary submissions will continue to support areas that would like to use those submissions to meet the requirements of other rules or plans.

When we proposed this revision, we assumed that the requirement to report specific daily and seasonal emissions was also addressed in the underlying pollutant-specific implementation rules, as well as the AERR. However, in light of these comments, we realize that the requirement to report these daily and seasonal emissions is not also contained in some of the underlying SIP implementation rules. The EPA continues to believe it is not necessary to require reporting of these emissions as part of the AERR and that it makes more sense to define and require reporting of the emissions required for compliance with specific SIP implementation rules within those rules themselves, or within the relevant maintenance plan. As a logical outgrowth of these comments and the fact that we did not propose to remove completely these pollutant-specific requirements—only to remove unnecessary duplication in the AERR—we are making additional changes to the underlying ozone implementation and NOX SIP Call rules. Accordingly, this final rule removes the ozone season emissions and summer day emissions definitions and reporting requirements from the AERR provisions in 40 CFR Subpart A, while also finalizing changes that will move the relevant definitions and reporting requirement to address summer day emissions to the ozone reporting requirements in 40 CFR 51.900 and 51.915 and to address ozone season emissions and summer day emissions in the NOX SIP Call reporting requirements in 40 CFR 51.122. As for CO winter work weekday emissions, since all CO areas have been redesignated to maintenance areas as of September 27, 2010, any requirements to report those emissions will exist in the relevant CO maintenance plans. As no comments identified specific CO-related deficiencies, especially as related to CO regulations or maintenance plans that would be impacted by these revisions, there is no indication that similar changes to underlying regulations are needed to address winter work day emissions.

F. Revisions To Simplify Reporting and Provide Consistency With EIS

The EPA proposed to remove required data elements from Tables 2a, 2b, and 2c. One commenter stated support for these changes. Another commenter stated support but also suggested the EPA maintain the requirements for parameters related to state end dates and other operating schedule parameters to reduce the assumptions that reported emissions occurred over the entire year. The EPA acknowledges that the operating parameters can be useful information for certain non-annual sources. However, the vast majority of sources operate on a fairly predictable pattern for the entire year, with only a small portion operating a partial year or with an unusual schedule. While the operating parameter information can be voluntarily reported for such sources, the EPA disagrees that requiring such fields for all sources makes sense in light of the low prevalence of non-annual sources.

The EPA also proposed to add new emissions elements. One commenter supported the addition of Aircraft Engine Type, Unit Type, and Release Point Apportionment Percent to the Facility Inventory data element tables. One commenter expressed concern over these additions, noting additional burden associated with reporting details about airport emissions. Two commenters did not support the requirement for using Shape Identifiers for some nonpoint categories because of the additional resource burden. Other commenters had various minor comments related to these changes. The EPA clarifies that the addition of fields that support the reporting of airport emissions as point sources does not change the sources that will need to be reported as point sources. Most airports still do not need to be reported as point sources because their stationary source emissions will not exceed the potential-to-emit thresholds in this rule. Furthermore, the EPA notes that we provide air agencies with all of the information about aircraft engine types to use in considering their airport emissions estimates, which should reduce any burdens associated with this change.

Regarding the change to require Shape Identifiers, we acknowledge there is some increased level of detail associated with reporting shapes rather than county totals. However, the EPA has minimized the resource burden overall by providing agencies with a table of factors to easily allocate from county emissions to shapes, based on the EPA's estimated geographic allocations. The EPA also provides assistance to air agencies that might prefer to submit county estimates, by helping to prepare allocations and data files for states to submit. Thus, the EPA is finalizing the changes as proposed.

V. Statutory and Executive Order Reviews

A. Executive Order 12866: Regulatory Planning and Review and Executive Order 13563: Improving Regulations and Regulatory Review

This action is not a “significant regulatory action” under the terms of Executive Order 12866 (58 FR 51735, October 4, 1993) and is, therefore, not subject to review under Executive Orders 12866 and 13563 (76 FR 3821, January 21, 2011).

B. Paperwork Reduction Act (PRA)

The Office of Management and Budget (OMB) has approved the information collection requirements contained in this rule under the provisions of the Paperwork Reduction Act, 44 U.S.C. 3501 et seq. and has assigned OMB control number 2170.05. You can find a copy of the ICR in the docket for this rule, and it is briefly summarized here.

The ICR collects air emissions and related information from state and local agencies for emissions sources of oxides of nitrogen, carbon monoxide, sulfur dioxide, volatile organic compounds, particulate matter less than or equal to 10 micrometers in diameter, particulate matter less than or equal to 2.5 micrometers in diameter, and ammonia.

Every 3 years, state and local air agencies are required to submit a point source inventory, as well as a statewide stationary nonpoint, onroad mobile, and nonroad mobile source inventory for all criteria pollutants and their precursors. The emissions data submitted for the annual and 3-year cycle inventories are used by EPA's Office of Air Quality Planning and Standards to assist in developing the NEI, performing regional modeling for various regulatory purposes, and preparing national trends assessments and other special analyses and reports. Additionally, states are required to report larger point sources annually, using emissions thresholds set in the reporting rule.

Respondents/affected entities: State and local air agencies.

Respondent's obligation to respond: Mandatory as per 40 CFR part 51.

Estimated number of respondents: 104.

Frequency of response: Annual, with additional requirements triennially.

Total estimated burden: 69,140 hours (per year in triennial years). Burden is defined at 5 CFR 1320.3(b).

Total estimated cost: $5,567,043 (per year), includes $1,166,480 annualized capital or operation & maintenance costs.

An agency may not conduct or sponsor, and a person is not required to respond to, a collection of information unless it displays a currently valid OMB control number. The OMB control numbers for the EPA's regulations in 40 CFR are listed in 40 CFR part 9.

C. Regulatory Flexibility Act (RFA)

I certify that this action will not have a significant economic impact on a substantial number of small entities under the RFA. This action will not impose any new requirements on small entities. This action corrects and clarifies emissions reporting requirements and provide states with additional flexibility in how they collect and report their emissions data, thereby reducing overall collection and reporting burdens and their associated costs.

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications as specified in Executive Order 13175. This action imposes no requirements on tribal governments. The amendments correct and clarify emissions reporting requirements and provide states with additional flexibility in how they collect and report their emissions data. Under the Tribal Authority Rule, tribes are not required to report their emissions to us, except in cases in which a tribal government voluntarily elected to apply for and received “Treatment as State” status for air quality control purposes and is subject to the AERR under its Tribal Implementation Plan. Thus, Executive Order 13175 does not apply to this action.

G. Executive Order 13045: Protection of Children From Environmental Health and Safety Risks

This action is not subject to Executive Order 13045 because it does not concern an environmental health risk or safety risk. The amendments correct and clarify emissions reporting requirements and provide states with additional flexibility in how they collect and report their emissions data.

H. Executive Order 13211: Actions Concerning Regulations That Significantly Affect Energy Supply, Distribution, or Use

This action is not a “significant energy action” because it is not likely to have a significant adverse effect on the supply, distribution, or use of energy. This action corrects and clarifies emissions reporting requirements and provides states with additional flexibility in how they collect and report their emissions data.

I. National Technology Transfer and Advancement Act

This action does not involve technical standards.

J. Executive Order 12898: Federal Actions To Address Environmental Justice in Minority Populations and Low-Income Populations

The EPA believes that this action will not have disproportionately high and adverse human health or environmental effects on minority or low-income populations because it does not affect the level of protection provided to human health or the environment. This action establishes information reporting procedures for emissions of criteria air pollutants from stationary and mobile sources.

K. Congressional Review Act

This action is subject to the CRA, and the EPA will submit a rule report to each House of the Congress and to the Comptroller General of the United States. This action is not a “major rule” as defined by 5 U.S.C. 804(2).

List of Subjects in 40 CFR Part 51

Environmental protection, Administrative practices and procedure, Air pollution control, Intergovernmental relations, Nitrogen oxides, Ozone, Particulate matter, Regional haze, Reporting and recordkeeping requirements, Sulfur dioxide.

Dated: February 6, 2015.
Gina McCarthy,
Administrator.

For the reasons stated in the preamble, title 40, chapter I, part 51 of the Code of Federal Regulations is amended as follows:

PART 51—REQUIREMENTS FOR PREPARATION, ADOPTION, AND SUBMITTAL OF IMPLEMENTATION PLANS

1. The authority citation for part 51 continues to read as follows:

Authority: 23 U.S.C. 101; 42 U.S.C. 7401-7671q.

Subpart A—Air Emissions Reporting Requirements

§ 51.10 [Removed and reserved]

2. Remove and reserve § 51.10.

3. In § 51.15:

a. Revise paragraphs (a)(2), (a)(3), (a)(4), (b)(2), (b)(3), (b)(4), and the first sentence in paragraphs (c) and (d).

b. Remove paragraphs (a)(5) and (e).

The revisions read as follows:

§ 51.15 What data does my state need to report to EPA?

(a) * * *

(2) A state may, at its option, choose to report NOX and VOC summer day emissions (or any other emissions) as required under the Ozone Implementation Rule or report CO winter work weekday emissions for CO nonattainment areas or CO attainment areas with maintenance plans to the Emission Inventory System (EIS) using the data elements described in this subpart.

(3) A state may, at its option, choose to report ozone season day emissions of NOX as required under the NOX SIP Call and summer day emissions of NOX that may be required under the NOX SIP Call for controlled sources to the EIS using the data elements described in this subpart.

(4) A state may, at its option, include estimates of emissions for additional pollutants (such as hazardous air pollutants) in its emission inventory reports.

(b) * * *

(2) Nonpoint. States may choose to meet the requirements for some of their nonpoint sources by accepting the EPA's estimates for the sources for which the EPA makes calculations. In such instances, states are encouraged to review and update the activity values or other calculational inputs used by the EPA for these sources.

(3) Onroad and Nonroad mobile. (i) Emissions for onroad and nonroad mobile sources must be reported as inputs to the latest EPA-developed mobile emissions models, such as the Motor Vehicle Emissions Simulator (MOVES) for onroad sources or the NMIM for nonroad sources. States using these models may report, at their discretion, emissions values computed from these models in addition to the model inputs.

(ii) In lieu of submitting model inputs for onroad and nonroad mobile sources, California must submit emissions values.

(iii) In lieu of submitting any data, states may accept existing EPA emission estimates.

(4) Emissions for wild and prescribed fires are not required to be reported by states. If states wish to optionally report these sources, they must be reported to the events data category. The events data category is a day-specific accounting of these large-scale but usually short duration emissions. Submissions must include both daily emissions estimates as well as daily acres burned values. In lieu of submitting this information, states may accept the EPA estimates or they may submit inputs (e.g., acres burned, fuel loads) for us to use in the EPA's estimation approach.

(c) Supporting information. You must report the data elements in Tables 2a and 2b in Appendix A of this subpart. * * *

(d) Confidential data. We do not consider the data in Tables 2a and 2b in Appendix A of this subpart confidential, but some states limit release of these types of data. * * *

4. In § 51.20, revise paragraphs (b) and (d) to read as follows:

§ 51.20 What are the emission thresholds that separate point and nonpoint sources?

* * * * *

(b) Sources that meet the definition of point source in this subpart must be reported as point sources. All pollutants specified in § 51.15(a) must be reported for point sources, not just the pollutant(s) that qualify the source as a point source.

* * * * *

(d) All stationary source emissions that are not reported as point sources must be reported as nonpoint sources. Episodic wind-generated particulate matter (PM) emissions from sources that are not major sources may be excluded, for example dust lifted by high winds from natural or tilled soil. Emissions of nonpoint sources should be aggregated to the resolution required by the EIS as described in the current National Emission Inventory (NEI) inventory year plan posted at http://www.epa.gov/ttn/chief/eiinformation.html. In most cases, this is county level and must be separated and identified by source classification code (SCC). Nonpoint source categories or emission events reasonably estimated by the state to represent a de minimis percentage of total county and state emissions of a given pollutant may be omitted.

(1) The reporting of wild and prescribed fires is encouraged but not required and should be done via only the “Events” data category.

(2) Agricultural fires (also referred to as crop residue burning) must be reported to the nonpoint data category.

5. Revise § 51.30 to read as follows:

§ 51.30 When does my state report which emissions data to EPA?

All states are required to report two basic types of emission inventories to the EPA: An every-year inventory; and a triennial inventory.

(a) Every-year inventory. See Tables 2a and 2b of Appendix A of this subpart for the specific data elements to report every year.

(1) All states are required to report every year the annual (12-month) emissions data described in § 51.15 from Type A (large) point sources, as defined in Table 1 of Appendix A of this subpart. The first every-year cycle inventory will be for the 2009 inventory year and must be submitted to the EPA within 12 months, i.e., by December 31, 2010.

(2) In inventory years that fall under the triennial inventory requirements, the reporting required by the triennial inventory satisfies the every-year reporting requirements of paragraph (a) of this section.

(b) Triennial inventory. See Tables 2a and 2b to Appendix A of subpart A for the specific data elements that must be reported for the triennial inventories.

(1) All states are required to report for every third inventory year the annual (12-month) emissions data as described in § 51.15. The first triennial inventory will be for the 2011 inventory and must be submitted to the EPA within 12 months, i.e., by December 31, 2012. Subsequent triennial inventories (2014, 2017, etc.) will be due 12 months after the end of the inventory year, i.e., by December 31 of the following year.

(2) [Reserved]

6. Revise § 51.35 to read as follows:

§ 51.35 How can my state equalize the emission inventory effort from year to year?

(a) Compiling a triennial inventory means more effort every 3 years. As an option, your state may ease this workload spike by using the following approach:

(1) Each year, collect and report data for all Type A (large) point sources (this is required for all Type A point sources).

(2) Each year, collect data for one-third of your sources that are not Type A point sources. Collect data for a different third of these sources each year so that data has been collected for all of the sources that are not Type A point sources by the end of each 3-year cycle. You must save 3 years of data and then report all emissions from the sources that are not Type A point sources on the triennial inventory due date.

(3) Each year, collect data for one-third of the nonpoint, nonroad mobile, and onroad mobile sources. You must save 3 years of data for each such source and then report all of these data on the triennial inventory due date.

(b) For the sources described in paragraph (a) of this section, your state will have data from 3 successive years at any given time, rather than from the single year in which it is compiled.

(c) If your state chooses the method of inventorying one-third of your sources that are not Type A point sources and triennial inventory nonpoint, nonroad mobile, and onroad mobile sources each year, your state must compile each year of the 3-year period identically. For example, if a process has not changed for a source category or individual plant, your state must use the same emission factors to calculate emissions for each year of the 3-year period. If your state has revised emission factors during the 3 years for a process that has not changed, you must compute previous years' data using the revised factor. If your state uses models to estimate emissions, you must make sure that the model is the same for all 3 years.

7. Revise § 51.40 to read as follows:

§ 51.40 In what form and format should my state report the data to EPA?

You must report your emission inventory data to us in electronic form. We support specific electronic data reporting formats, and you are required to report your data in a format consistent with these. The term “format” encompasses the definition of one or more specific data fields for each of the data elements listed in Tables 2a and 2b in Appendix A of this subpart; allowed code values for certain data fields; transmittal information; and data table relational structure. Because electronic reporting technology may change, contact the EPA Emission Inventory and Analysis Group (EIAG) for the latest specific formats. You can find information on the current formats at the following Internet address: http://www.epa.gov/ttn/chief/eis/2011nei/xml_data_eis.pdf. You may also call the air emissions contact in your EPA Regional Office or our Info CHIEF help desk at (919) 541-1000 or send email to info.chief@epa.gov.

8. Revise § 51.50 to read as follows:

§ 51.50 What definitions apply to this subpart?

Aircraft engine type means a code defining a unique combination of aircraft and engine used as an input parameter for calculating emissions from aircraft.

Annual emissions means actual emissions for a plant, point, or process that are measured or calculated to represent a calendar year.

Control measure means a unique code for the type of control device or operational measure (e.g., wet scrubber, flaring, process change, ban) used to reduce emissions.

Emission calculation method means the code describing how the emissions for a pollutant were calculated, e.g., by stack test, continuous emissions monitor, EPA emission factor, etc.

Emission factor means the ratio relating emissions of a specific pollutant to an activity throughput level.

Emission operating type means the operational status of an emissions unit for the time period for which emissions are being reported, i.e., Routine, Startup, Shutdown, or Upset.

Emission process identifier means a unique code for the process generating the emissions.

Emission type means the type of emissions produced for onroad and nonroad sources or the mode of operation for marine vessels.

Emissions year means the calendar year for which the emissions estimates are reported.

Facility site identifier means the unique code for a plant or facility treated as a point source, containing one or more pollutant-emitting units. The EPA's reporting format allows for state submittals to use either the state's data system identifiers or the EPA's Emission Inventory System identifiers.

Facility site name means the name of the facility.

Lead (Pb) means lead as defined in 40 CFR 50.12. Emissions of Pb which occur either as elemental Pb or as a chemical compound containing Pb should be reported as the mass of the Pb atoms only.

Mobile source means a motor vehicle, nonroad engine or nonroad vehicle, where:

(1) A motor vehicle is any self-propelled vehicle used to carry people or property on a street or highway;

(2) A nonroad engine is an internal combustion engine (including fuel system) that is not used in a motor vehicle or a vehicle used solely for competition, or that is not affected by sections 111 or 202 of the CAA; and

(3) A nonroad vehicle is a vehicle that is run by a nonroad engine and that is not a motor vehicle or a vehicle used solely for competition.

NAICS means North American Industry Classification System code. The NAICS codes are U.S. Department of Commerce's codes for categorizing businesses by products or services and have replaced Standard Industrial Classification codes.

Nitrogen oxides (NOX) means nitrogen oxides (NOX) as defined in 40 CFR 60.2 as all oxides of nitrogen except N2O. Nitrogen oxides should be reported on an equivalent molecular weight basis as nitrogen dioxide (NO2).

Nonpoint sources collectively represent individual sources that have not been inventoried as specific point or mobile sources. These individual sources treated collectively as nonpoint sources are typically too small, numerous, or difficult to inventory using the methods for the other classes of sources.

Particulate matter (PM) is a criteria air pollutant. For the purpose of this subpart, the following definitions apply:

(1) Filterable PM2.5 or Filterable PM10: Particles that are directly emitted by a source as a solid or liquid at stack or release conditions and captured on the filter of a stack test train. Filterable PM2.5 is particulate matter with an aerodynamic diameter equal to or less than 2.5 micrometers. Filterable PM10 is particulate matter with an aerodynamic diameter equal to or less than 10 micrometers.

(2) Condensable PM: Material that is vapor phase at stack conditions, but which condenses and/or reacts upon cooling and dilution in the ambient air to form solid or liquid PM immediately after discharge from the stack. Note that all condensable PM, if present from a source, is typically in the PM2.5 size fraction and, therefore, all of it is a component of both primary PM2.5 and primary PM10.

(3) Primary PM2.5: The sum of filterable PM2.5 and condensable PM.

(4) Primary PM10: The sum of filterable PM10 and condensable PM.

(5) Secondary PM: Particles that form or grow in mass through chemical reactions in the ambient air well after dilution and condensation have occurred. Secondary PM is usually formed at some distance downwind from the source. Secondary PM should not be reported in the emission inventory and is not covered by this subpart.

Percent control approach capture efficiency means the percentage of an exhaust gas stream actually collected for routing to a set of control devices.

Percent control approach effectiveness means the percentage of time or activity throughput that a control approach is operating as designed, including the capture and reduction devices. This percentage accounts for the fact that controls typically are not 100 percent effective because of equipment downtime, upsets and decreases in control efficiencies.

Percent control approach penetration means the percentage of a nonpoint source category activity that is covered by the reported control measures.

Percent control measures reduction efficiency means the net emission reduction efficiency across all emissions control devices. It does not account for capture device efficiencies.

Physical address means the location address (street address or other physical location description), locality name, state, and postal zip code of a facility. This is the physical location where the emissions occur; not the corporate headquarters or a mailing address.

Point source means large, stationary (non-mobile), identifiable sources of emissions that release pollutants into the atmosphere. A point source is a facility that is a major source under 40 CFR part 70 for one or more of the pollutants for which reporting is required by § 51.15 (a)(1). This does not include the emissions of hazardous air pollutants, which are not considered in determining whether a source is a point source under this subpart. The minimum point source reporting thresholds are shown in Table 1 of Appendix A.

Pollutant code means a unique code for each reported pollutant assigned by the reporting format specified by the EPA for each inventory year.

Release point apportionment percent means the average percentage(s) of an emissions exhaust stream directed to a given release point.

Release point exit gas flow rate means the numeric value of the flow rate of a stack gas.

Release point exit gas temperature means the numeric value of the temperature of an exit gas stream in degrees Fahrenheit.

Release point exit gas velocity means the numeric value of the velocity of an exit gas stream.

Release point identifier means a unique code for the point where emissions from one or more processes release into the atmosphere.

Release point stack diameter means the inner physical diameter of a stack.

Release point stack height means physical height of a stack above the surrounding terrain.

Release point type code means the code for physical configuration of the release point.

Reporting period type means the code describing the time period covered by the emissions reported, i.e., Annual, 5-month ozone season, summer day, or winter.

Source classification code (SCC) means a process-level code that describes the equipment and/or operation which is emitting pollutants.

State and county FIPS code means the system of unique identifiers in the Federal Information Placement System (FIPS) used to identify states, counties and parishes for the entire United States, Puerto Rico, and Guam.

Throughput means a measurable factor or parameter that relates directly or indirectly to the emissions of an air pollution source during the period for which emissions are reported. Depending on the type of source category, activity information may refer to the amount of fuel combusted, raw material processed, product manufactured, or material handled or processed. It may also refer to population, employment, or number of units. Activity throughput is typically the value that is multiplied against an emission factor to generate an emissions estimate.

Type A source means large point sources with a potential to emit greater than or equal to any of the thresholds listed in Table 1 of Appendix A of this subpart. If a source is a Type A source for any pollutant listed in Table 1, then the emissions for all pollutants required by § 51.15 must be reported for that source.

Unit design capacity means a measure of the size of a point source, based on the reported maximum continuous throughput or output capacity of the unit.

Unit identifier means a unique code for the unit that generates emissions, typically a physical piece of equipment or a closely related set of equipment.

VOC means volatile organic compounds. The EPA's regulatory definition of VOC is in 40 CFR 51.100.

9. In Appendix A to subpart A of part 51:

a. Revise tables 1, 2a, and 2b.

b. Remove table 2c.

The revisions read as follows:

Appendix A to Subpart A of Part 51—Tables

Table 1 to Appendix A of Subpart A—Emission Thresholds ¹ by Pollutant for Treatment as Point Source Under 40 CFR 51.30
Pollutant | Every-year (Type A sources) ² | Triennial: Type B sources | Triennial: NAA sources ³
(1) SO2 | ≥2500 | ≥100 | ≥100.
(2) VOC | ≥250 | ≥100 | O3 (moderate) ≥100.
|  |  | O3 (serious)≥50.
|  |  | O3 (severe) ≥25.
|  |  | O3 (extreme) ≥10.
(3) NOX | ≥2500 | ≥100 | ≥100.
(4) CO | ≥2500 | ≥1000 | O3 (all areas) ≥100.
|  |  | CO (all areas) ≥100.
(5) Lead |  | ≥0.5 (actual) | ≥0.5 (actual).
(6) Primary PM10 | ≥250 | ≥100 | PM10 (moderate) ≥100.
|  |  | PM10 (serious) ≥70.
(7) Primary PM2.5 | ≥250 | ≥100 | ≥100.
(8) NH3⁴ | ≥250 | ≥100 | ≥100.
¹ Thresholds for point source determination shown in tons per year of potential to emit as defined in 40 CFR part 70, with the exception of lead. Reported emissions should be in actual tons emitted for the required time period.
² Type A sources are a subset of the Type B sources and are the larger emitting sources by pollutant.
³ NAA = Nonattainment Area. The point source reporting thresholds vary by attainment status for VOC, CO, and PM10.
⁴ NH3 threshold applies only in areas where ammonia emissions are a factor in determining whether a source is a major source, i.e., where ammonia is considered a significant precursor of PM2.5.

Table 2a to Appendix A of Subpart A—Facility Inventory ¹ Data Elements for Reporting Emissions From Point Sources, Where Required by 40 CFR 51.30
Data elements
(1) Emissions Year.
(2) State and County FIPS Code or Tribal Code.
(3) Facility Site Identifier.
(4) Unit Identifier.
(5) Emission Process Identifier.
(6) Release Point Identifier.
(7) Facility Site Name.
(8) Physical Address (Location Address, Locality Name, State and Postal Code).
(9) Latitude and Longitude at facility level.
(10) Source Classification Code.
(11) Aircraft Engine Type (where applicable).
(12) Facility Site Status and Year.
(13) Release Point Stack Height and Unit of Measure.
(14) Release Point Stack Diameter and Unit of Measure.
(15) Release Point Exit Gas Temperature and Unit of Measure.
(16) Release Point Exit Gas Velocity or Release Point Exit Gas Flow Rate and Unit of Measure.
(17) Release Point Status and Year.
(18) NAICS at facility level.
(19) Unit Design Capacity and Unit of Measure (for some unit types).
(20) Unit Type.
(21) Unit Status and Year.
(22) Release Point Apportionment Percent.
(23) Release Point Type.
(24) Control Measure and Control Pollutant (where applicable).
(25) Percent Control Approach Capture Efficiency (where applicable).
(26) Percent Control Measures Reduction Efficiency (where applicable).
(27) Percent Control Approach Effectiveness (where applicable).
¹ Facility Inventory data elements need only be reported once to the EIS and then revised if needed. They do not need to be reported for each triennial or every-year emissions inventory.

Table 2b to Appendix A of Subpart A—Data Elements for Reporting Emissions From Point, Nonpoint, Onroad Mobile and Nonroad Mobile Sources, Where Required by 40 CFR 51.30
Data elements | Point | Nonpoint | Onroad | Nonroad
(1) Emissions Year | Y | Y | Y | Y
(2) FIPS code | Y | Y | Y | Y
(3) Shape Identifiers (where applicable) |  | Y |  |
(4) Source Classification Code |  | Y | Y | Y
(5) Emission Type (where applicable) |  | Y | Y | Y
(8) Emission Factor | Y | Y |  |
(9) Throughput (Value, Material, Unit of Measure, and Type) | Y | Y | Y |
(10) Pollutant Code | Y | Y | Y | Y
(11) Annual Emissions and Unit of Measure | Y | Y | Y | Y
(12) Reporting Period Type (Annual) | Y | Y | Y | Y
(13) Emission Operating Type (Routine) | Y |  |  |
(14) Emission Calculation Method | Y | Y |  |
(15) Control Measure and Control Pollutant (where applicable) |  | Y |  |
(16) Percent Control Measures Reduction Efficiency (where applicable) |  | Y |  |
(17) Percent Control Approach Effectiveness (where applicable) |  | Y |  |
(18) Percent Control Approach Penetration (where applicable) |  | Y |  |

Subpart G—Control Strategy

10. In § 51.122:

a. Revise paragraphs (a), (c)(1)(i), (c)(2), (c)(3), (f), and (g).

b. Remove and reserve paragraph (d).

The revisions read as follows:

§ 51.122 Emissions reporting requirements for SIP revisions relating to budgets for NOX emissions.

(a) As used in this section, words and terms shall have the meanings set forth in § 51.50. In addition, the following terms shall apply to this section:

(1) Ozone season emissions means emissions during the period from May 1 through September 30 of a year.

(2) Summer day emissions means an average day's emissions for a typical summer work weekday. The state will select the particular month(s) in summer and the day(s) in the work week to be represented.

* * * * *

(c) * * *

(1) * * *

(i) The state must report to EPA emissions data from all NOX sources within the state for which the state specified control measures in its SIP submission under § 51.121(g), including all sources for which the state has adopted measures that differ from the measures incorporated into the baseline inventory for the year 2007 that the state developed in accordance with § 51.121(g).The state must also report to EPA ozone season emissions of NOX and summer day emissions of NOX from any point, nonpoint, onroad mobile, or nonroad mobile source for which the state specified control measures in its SIP submission under § 51.121(g).

* * * * *

(2) For the 3-year cycle reporting, each plan must provide for triennial (i.e., every third year) reporting of NOX emissions data from all sources within the state. The state must also report to EPA ozone season emissions of NOX and summer day emissions of NOX from all point sources, nonpoint sources, onroad mobile sources, and nonroad mobile sources.

(3) The data availability requirements in § 51.116 must be followed for all data submitted to meet the requirements of paragraphs (c)(1) and (2) of this section.

(d) [Reserved]

* * * * *

(f) Reporting schedules. Data collection is to begin during the ozone season 1 year prior to the state's NOX SIP Call compliance date.

(g) The state shall report emissions as point sources according to the point source emissions thresholds of the Air Emissions Reporting Rule (AERR), 40 CFR part 51, subpart A. The detail of the emissions inventory shall be consistent with the data elements required by 40 CFR part 51, subpart A. When submitting a formal NOX Budget Emissions Report and associated data, states shall notify the appropriate EPA Regional Office.

Subpart X—Provisions for Implementation of 8-hour Ozone National Ambient Air Quality Standard

11. In § 51.900, add paragraph (v) to read as follows:

§ 51.900 Definitions.

* * * * *

(v) Summer day emissions means an average day's emissions for a typical summer work weekday. The state will select the particular month(s) in summer and the day(s) in the work week to be represented. The selection of conditions should be coordinated with the conditions assumed in the development of RFP plans, ROP plans and demonstrations, and/or emissions budgets for transportation conformity, to allow comparability of daily emission estimates.

12. Revise § 51.915 to read as follows:

§ 51.915 What emissions inventory requirements apply under the 8-hour NAAQS?

For each nonattainment area subject to subpart 2 in accordance with § 51.903, the emissions inventory requirements in sections 182(a)(1) and 182(a)(3) of the Act shall apply, and such SIP shall be due no later 2 years after designation. For each nonattainment area subject only to title I, part D, subpart 1 of the Act in accordance with § 51.902(b), the emissions inventory requirement in section 172(c)(3) of the Act shall apply, and an emission inventory SIP shall be due no later 3 years after designation. The state must report to the EPA summer day emissions of NOX and VOC from all point sources, nonpoint sources, onroad mobile sources, and nonroad mobile sources. The state shall report emissions as point sources according to the point source emissions thresholds of the Air Emissions Reporting Rule (AERR), 40 CFR part 51, subpart A. The detail of the emissions inventory shall be consistent with the data elements required by 40 CFR part 51, subpart A.

[FR Doc. 2015-03470 Filed 2-18-15; 8:45 am]

BILLING CODE 6560-50-P